DEPARTMENT OF THE INTERIOR

Fish and Wildlife Service

[FWS-HQ-R-2017-N017; FXGO1664091HCC0-FF09D00000-178]

Wildlife and Hunting Heritage Conservation Council; Cancellation of Meeting

AGENCY: Fish and Wildlife Service, Interior.

ACTION: Notice.

SUMMARY: The meeting of the Wildlife and Hunting Heritage Conservation Council scheduled for Tuesday, February 7, 2017, and Wednesday, February 8, 2017, is cancelled.

FOR FURTHER INFORMATION CONTACT: Joshua Winchell, Council Designated Federal Officer, by U.S. mail at the U.S. Fish and Wildlife Service, National Wildlife Refuge System, 5275 Leesburg Pike, Falls Church, VA 22041-3803; by telephone at (703) 358-2639; or by email at joshua_winchell@fws.gov.

SUPPLEMENTARY INFORMATION: The meeting of the Wildlife and Hunting Heritage Conservation Council (Council) scheduled for Tuesday, February 7, 2017, and Wednesday, February 8, 2017, is cancelled.

About the Council

The Council provides advice about wildlife and habitat conservation endeavors that benefit wildlife resources; encourage partnership among the public, sporting conservation organizations, States, Native American tribes, and the Federal Government; and benefit recreational hunting.

More information on the Council is available in the original Federal Register notice that announced the meeting (81 FR 93704) and at http://www.fws.gov/whhcc.

Authority: Notice of cancellation of this meeting is given under the Federal Advisory Committee Act (FACA), Pub. L. 92-463, as amended, 5 U.S.C. App.

Joshua Winchell,
Designated Federal Officer, U.S. Fish and Wildlife Service.

[FR Doc. 2017-02556 Filed 2-3-17; 11:15 am]

BILLING CODE 4333-15-P